FEDERAL COMMUNICATIONS COMMISSION

47 CFR Part 1

[MD Docket No. 08-65, FCC 09-21]

Assessment and Collection of Regulatory Fees for Fiscal Year 2008

AGENCY: Federal Communications Commission.

ACTION: Final rule; correction.

SUMMARY: In this document the Federal Communications Commission corrects an inadvertent typographical error regarding the effective date that was published in the Federal Register on May 12, 2009. The correct effective date should have read July 15, 2009 instead of July 13, 2009.

DATES: Effective May 19, 2009.

FOR FURTHER INFORMATION CONTACT: Roland Helvajian, Office of Managing Director at (202) 418-0444.

SUPPLEMENTARY INFORMATION: This is a correction in the effective date of the Order FCC 09-21 that was published in the Federal Register on May 12, 2009 (74 FR 22104). Accordingly, this document corrects the effective date as indicated below.

In rule FR Doc. E9-10987 published on May 12, 2009, 74 FR 22104 make the following correction. On page 22104, in the second column, correct the DATES section to read:

DATES: Effective July 15, 2009, which pursuant to section 9(b)(3) of the Communications Act, is 90 days from date of notification to Congress.

Marlene H. Dortch,
Secretary, Federal Communications Commission.

[FR Doc. E9-11582 Filed 5-18-09; 8:45 am]

BILLING CODE 6712-01-P